DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Closed to the public February 6, 2024 from 9:15 a.m. to 11:30 a.m., 1:20 p.m. to 4:50 p.m., and from 5:00 p.m. to 7:05 p.m. and on February 7, 2024 from 9:20 a.m. to 11:05 a.m. Open to the public February 6 from 12:30 p.m. to 1:15 p.m. All Eastern time.

ADDRESSES: The open and closed portions of the meeting will be in room M2 of the Pentagon Library Conference Center, Nunn-Lugar Conference Room and 4D880 in the Pentagon, and at the U.S. Department of State, Washington DC.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board will begin in closed session on February 6 from 9:15 a.m. to 11:30 a.m. The DFO will begin the closed session followed by a welcome by Board Chair, Hon. Deborah James. The Board will receive a classified discussion on the DoD Budget from Hon. Kathleen Hicks, Deputy Secretary of Defense. The discussion will cover the DoD priorities and considerations that helped to shape its request as part of the President's budget request for fiscal year 2025. Next the Board will receive a classified discussion on the DoD Audit and Incremental Progress from Hon. Michael McCord. This session will include an overview of the latest DoD Audit, progress to date, and the path forward. Discussion will include current obstacles and recommended courses of action from business leaders. The DFO will adjourn the closed session. After a lunch break, the Board will meet in open session from 12:30 p.m. to 1:15 p.m. The DFO will open the public session followed by a welcome by the Board Chair. The Board will receive a presentation on the Board study, Creating a Digital Ecosystem Study from Mr. Stan Soloway, Chair, Business Transformation Subcommittee. During this session, the Subcommittee will brief the Board on the findings, observations, and recommendations it compiled as part of a recent study on ways to leverage digital ecosystems to harness the power of data to aid decision-making and risk analysis through simulation and advanced computing.

The DFO will then adjourn the open session. The Board will reconvene in closed session from 1:20 p.m. to 4:50 p.m. The DFO will begin the closed session followed by a welcome by the Board Chair. The Board will receive a classified discussion on the State of the Workforce—Recruiting, Training, and Retention, Obstacles, and Solutions from Sergeant Major Troy E. Black, Senior Enlisted Advisor to the Chairman of the Joint Chiefs of Staff The conversation is expected to delve into the multifaceted aspects of managing a contemporary workforce, addressing challenges in recruiting talent in the current environment, implementing effective training programs, and devising retention strategies. Discussion will focus on identifying obstacles such as changing workforce expectations, skill gaps to address future needs per the National Security Strategy and exploring innovative solutions to foster a resilient and high-performing workforce. Next the Board will receive a classified discussion on DoD Current Affairs from Hon. Lloyd Austin, Secretary of Defense. This session is expected to focus on the state of the current global security environment and its implications for current and future business operations. Following, the Board will receive a classified discussion on Current Operations, Crisis Action Planning, and Adaptive Decision Making in Dynamic Environments from LTG Douglass A. Sims II, Army, Director of Operations. This forum will explore the intersection of military operations and corporate crisis management, highlighting the parallels between the principles of current operations, crisis action planning, and adaptive decision-making in both contexts. Through this exploration, participants can gain valuable insights into proactive crisis management, strategic preparedness for “black swan” events, and the cultivation of an agile organizational culture that is capable of navigating complex and rapidly changing landscapes. The DFO will adjourn the closed session. The Board will transition to the Air Force Mess for their final closed session on February 6. The DFO will begin the closed session followed by remarks by Board Chair, Hon Deborah James and Deputy Secretary, Hon. Kathleen Hicks. Next, the Board will hear a classified update by the Defense Advanced Research Projects Agency (DARPA) from Dr. Stefanie Tompkins, Director. This discussion focuses on any significant updates from DARPA in support of the National Security Strategy, how they have a different remit from the DoD, and what best business practices could be imported to the rest of the DoD. The DFO will adjourn the closed session. The Board will meet in closed session February 7 from 9:20 a.m. to 11:05 a.m. The DFO will begin the closed session followed by the Chair's welcome. Next the Board will receive a classified Briefing on State Department (DoS) Business Operations/Management in Support of Current Efforts from Richard Verma, Deputy Secretary of State for Management and Resources. This discussion will focus on differences between DoD, DoS, and business operations management, and DoD and DoS unity of effort to achieve combined effects both militarily and diplomatically. The DFO will then adjourn the closed session.

The latest version of the agenda will be available on the Board's website at: https://dbb.dod.afpims.mil/Meetings/Meeting-February-2024/.

Meeting Accessibility: In accordance with 5 U.S.C. 1009(d) and 41 CFR 102-3.155, it is hereby determined that the February 6-7 meeting of the Board will include classified information and other matters covered by 5 U.S.C. 552b(c)(1) and that, accordingly, portions of the meeting will be closed to the public. This determination is based on the consideration that it is expected that discussions throughout the closed portions will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and the Deputy Secretary of Defense. Pursuant to 5 U.S.C. 1009(a)(1) and 41 CFR 102-3.140, the portion of the meeting on February 6 from 12:30 p.m. to 1:15 p.m. is open to the public virtually. Persons desiring to attend the public sessions are required to register. To attend the public sessions, submit your name, affiliation/organization, telephone number, and email contact information to the Board at osd.pentagon.odam.mbx.defense-business-board@mail.mil. Requests to attend the public sessions must be received no later than 4:00 p.m. on Friday, February 2, 2024. Upon receipt of this information, the Board will provide further instructions for virtually attending the meeting.

Written Comments and Statements: Pursuant to 41 CFR 102-3.105(j) and 102-3.140 and 5 U.S.C. 1009(a)(3) of the FACA, the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by Friday, February 2, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: January 12, 2024.
Aaron T. Siegel,
Alternate OSD Federal Register Liaison Officer, Department of Defense.

[FR Doc. 2024-00961 Filed 1-18-24; 8:45 am]

BILLING CODE 6001-FR-P